DEPARTMENT OF HOMELAND SECURITY

Coast Guard

33 CFR Part 165

[Docket Number USCG-2014-0253]

RIN 1625-AA00

Safety Zone; Bullhead City River Regatta; Bullhead City, AZ

AGENCY: Coast Guard, DHS.

ACTION: Notice of proposed rulemaking.

SUMMARY: The Coast Guard proposes to establish a temporary safety zone on the navigable waters of the Colorado River in Bullhead City, Arizona. The safety zone is necessary to provide for the safety of the Bullhead City River Regatta marine event participants. The safety zone will temporarily restrict vessel movement and public waterway use within the designated area. During the annual one-day event, held on August 9, 2014, non-authorized event persons and vessels would be prohibited from entering into, transiting through or anchoring within the enforced period of the safety zone unless authorized by the Captain of the Port or his designated representative.

DATES: Comments and related material must be received by the Coast Guard on or before June 19, 2014.

Requests for public meetings must be received by the Coast Guard on or before June 4, 2014.

ADDRESSES: You may submit comments identified by docket number using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Lieutenant Commander John Bannon, Waterways Management, U.S. Coast Guard Sector San Diego; telephone (619) 278-7656, email John.E.Bannon@uscg.mil. If you have questions on viewing or submitting material to the docket, call Cheryl Collins, Program Manager, Docket Operations, telephone (202) 366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2014-0253] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2014-0253) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

B. Basis and Purpose

The request for a waterway safety zone was submitted by the organizer of the annual event, Bullhead City, Arizona. The safety zone will provide a safety buffer from vessel traffic for the estimated 25,000 participants floating down a six mile portion of the Colorado River during the annual marine event.

The Bullhead City River Regatta is a reoccurring marine event listed in 33 CFR 100.1102 Table 1, Item number 16.

The Bullhead City River Regatta is held on the navigable waters of the Colorado River adjacent to Bullhead City, Arizona and Laughlin, Nevada. The waterway is under federal jurisdiction due to the division of two states. The proposed safety zone is deemed necessary by Coast Guard Sector San Diego Captain of the Port to provide for the safety of the event participants and to support the state-led waterway safety efforts. This popular event involves a high number of people, with paid event permits, floating down a six mile portion of the Colorado River on inflatable rafts, inner tubes and floating platforms. This is the only event on this portion of the waterway that restricts public access for a defined period of time during one day of the year.

Because of the high amount of participants, narrow and treacherous portions of the waterway, public access for this small portion of the waterway is limited at the request of local law enforcement and city officials. The sponsor provides adequate notice and the annual event occurs each year on the same approximate date and time, as well as the same portion of the waterway. The small part of the waterway impacted will be reopened as soon as the waterway is deemed safe by the Coast Guard Captain of the Port or his designated representative. The sponsor will provide over 35 patrol and rescue vessels to help facilitate the event and ensure public safety.

D. Discussion of Proposed Rule

The proposed temporary safety zone will encompass a six mile portion of the Colorado River, directly adjacent to Bullhead City, Arizona and Laughlin, Nevada. Specifically, the closed portion of the Colorado River includes the waters between Davis Camp and Rotary Park in Bullhead City, Arizona. In the interest of public and event participant safety, general navigation within the safety zone by non-event participants will be restricted. Except for vessels authorized by the Coast Guard Captain of the Port or his representative, working closely with Bullhead City event command staff, no person or vessel may enter or remain in the regulated area for the safety of event participants. This zone will be in effect from 6 a.m. to 6 p.m. on August 9, 2014. Before the effective period, the Coast Guard will publish a Local Notice to Mariners (LNM) and marine information broadcasts on the day of the event. Should the safety zone no longer be required, the waterway will be reopened as soon as possible for full public use.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This determination is based on the size and location of the safety zone. Although the safety zone would apply to the entire width of the river for a six mile stretch, traffic would be allowed to pass through the zone before and immediately after the marine event. In addition, with the permission of the Captain of the Port or his designated representative, limited traffic may be authorized on a case-by-case basis. Additionally, before the effective period, the Coast Guard will publish a Local Notice to Mariners (LNM).

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

This proposed rule would affect the following entities, some of which might be small entities: The owners or operators of private or commercial vessels intending to transit or anchor in that portion of the Colorado River between Davis Camp and Rotary Park between 6 a.m. and 6 p.m. on August 9, 2014.

This safety zone would not have a significant economic impact on a substantial number of small entities for the following reasons. Although the safety zone would apply to the entire width of the river for a six mile portion and a majority of the day, traffic may be allowed to pass through the zone on a case-by-case basis with the permission of the Coast Guard Captain of the Port or his designated representative, working closely with marine event law enforcement leadership. In addition, early morning and late afternoon traffic can pass through prior to and immediately after the event. The reopening of the waterway will occur as soon as the waterway is deemed safe. A phased reopening will occur from north to south as the last participants are allowed to enter the waterway on their six mile floating transit. Before the effective period, the Coast Guard and Bullhead City, Arizona will issue maritime and local advisories widely available to the users of the waterway.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this proposed rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children From Environmental Health Risks and Safety Risks. This rule is not an economically significant rule and would not create an environmental risk to health or risk to safety that might disproportionately affect children.

11. Indian Tribal Governments

This proposed rule does not have tribal implications under Executive Order 13175, Consultation and Coordination With Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. This proposed rule involves establishing a temporary safety zone. This rule is categorically excluded from further review under paragraph 34(g) of Figure 2-1 of the Commandant Instruction. A preliminary environmental analysis checklist supporting this determination and a Categorical Exclusion Determination are available in the docket where indicated under ADDRESSES. We seek any comments or information that may lead to the discovery of a significant environmental impact from this proposed rule.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add § 165.T11-632 to read as follows:

§ 165.T11-632 Safety Zone; Bullhead City River Regatta; Bullhead City, AZ.

(a) Regulated area. The following area is a temporary safety zone: This zone includes six miles of the Colorado River, from Davis Camp, Bullhead City, Arizona to Rotary Park, Bullhead City, Arizona.

(b) Regulations. Before the effective period, the Coast Guard will publish a Local Notice to Mariners (LNM). If the event concludes prior to the scheduled termination time, the Captain of the Port will cease enforcement of this safety zone and will announce the reopening of portions or entire waterway via Broadcast Notice to Mariners. In addition, the following regulations apply:

(1) Entry into, transit through or anchoring within this safety zone is prohibited unless authorized by the Captain of the Port of San Diego or his designated representative.

(2) Mariners can request permission to transit through the safety zone from the Patrol Commander. The Patrol Commander can be contacted on VHF-FM channels 16 and 23.

(3) The operator of any vessel within or in the immediate vicinity of this safety zone shall:

(i) Stop the vessel immediately upon being directed to do so by any commissioned, warrant or petty officer on board a vessel displaying a Coast Guard Ensign, and

(ii) Proceed as directed by any commissioned, warrant or petty officer on board a vessel displaying a Coast Guard Ensign

(iii) The Coast Guard may be assisted by other federal, state, or local agencies.

(c) Definitions. The following definition applies to this section:

(1) Captain of the Port San Diego means the Commander, Coast Guard Sector San Diego.

(2) Designated representative means any commissioned, warrant, or petty officer of the Coast Guard on board Coast Guard, Coast Guard Auxiliary, and local, state, and federal law enforcement vessels who have been authorized to act on the behalf of the Captain of the Port.

(d) Enforcement. The U.S. Coast Guard may be assisted by Federal, State and local agencies in the patrol and notification of the safety zone.

(e) Enforcement period. This section will be enforced from 6 a.m. to 6 p.m. on August 9, 2014 unless cancelled earlier by the Captain of the Port.

Dated: April 15, 2014.
S.M. Mahoney,
Captain, U.S. Coast Guard, Captain of the Port San Diego.

[FR Doc. 2014-11568 Filed 5-19-14; 8:45 am]

BILLING CODE 9110-04-P